NUCLEAR REGULATORY COMMISSION

[NRC-2008-0409]

Notice of Issuance of Regulatory Guide

AGENCY: Nuclear Regulatory Commission.

ACTION: Notice of Issuance and Availability of Regulatory Guide 1.213, “Qualification of Safety-Related Motor Control Centers for Nuclear Power Plants.”

FOR FURTHER INFORMATION CONTACT: Mark Orr, Regulatory Guide Development Branch, Division of Engineering, Office of Nuclear Regulatory Research, U.S. Nuclear Regulatory Commission, Washington, DC 20555-0001, telephone (301) 251-7495 or e-mail to Mark.Orr@nrc.gov.

SUPPLEMENTARY INFORMATION:

I. Introduction

The U.S. Nuclear Regulatory Commission (NRC or Commission) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Regulatory Guide 1.213 was issued with a temporary identification as Draft Regulatory Guide, DG-1149. This regulatory guide describes a method that the staff of the NRC deems acceptable for complying with the Commission's regulations for qualification of safety-related motor control centers for nuclear power plants.

The Commission's regulations in Title 10, Part 50, “Domestic Licensing of Production and Utilization Facilities,” of the Code of Federal Regulations (10 CFR part 50), require that structures, systems, and components in a nuclear power plant that are important to safety be designed to accommodate the effects of environmental conditions (i.e., they must remain functional under postulated design-basis events (DBEs)). Toward that end, General Design Criteria 1, 2, 4, and 23 of Appendix A, “General Design Criteria for Nuclear Power Plants,” to 10 CFR Part 50 contain the general requirements. Augmenting those general requirements are the specific requirements pertaining to qualification of certain electrical equipment important to safety that appear in 10 CFR 50.49, “Environmental Qualification of Electric Equipment Important to Safety for Nuclear Power Plants.” In addition, Criterion III, “Design Control,” of Appendix B, “Quality Assurance Criteria for Nuclear Power Plants and Fuel Reprocessing Plants,” to 10 CFR part 50, requires that test programs, when used to verify the adequacy of a specific design feature, should include suitable qualification testing of a prototype unit under the most severe DBE.

II. Further Information

In July 2008, DG-1149 was published with a public comment period of 60 days from the issuance of the guide. The public comment period closed on September 19, 2008. The staff's responses to the public comments are located in the NRC's Agencywide Documents Access and Management System (ADAMS), Accession Number ML083010458.

Electronic copies of Regulatory Guide 1.213 are available through the NRC's public Web site under “Regulatory Guides” at http://www.nrc.gov/reading-rm/doc-collections/.

In addition, regulatory guides are available for inspection at the NRC's Public Document Room (PDR), which is located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr.resource@nrc.gov.

Regulatory guides are not copyrighted, and NRC approval is not required to reproduce them.

Dated at Rockville, Maryland, this 8th day of May, 2009.
For the Nuclear Regulatory Commission.
Richard A. Jervey,
Acting Chief, Regulatory Guide Development Branch, Division of Engineering, Office of Nuclear Regulatory Research.

[FR Doc. E9-11389 Filed 5-14-09; 8:45 am]

BILLING CODE 7590-01-P